DEPARTMENT OF ENERGY

Bonneville Power Administration

Safety-Net Cost Recovery Adjustment Clause (SN CRAC); Adjustment to 2002 Wholesale Power Rates

AGENCY: Bonneville Power Administration (BPA), Department of Energy (DOE).

ACTION: Notice of availability of Record of Decision (ROD).

SUMMARY: This notice announces the availability of the ROD for BPA to implement its proposed SN CRAC Adjustment to 2002 Wholesale Power Rates. This rate adjustment is being implemented to allow BPA to address potential revenue shortfalls and to allow BPA to recover its costs through rates. This rate adjustment involves implementation of one of BPA's existing risk mitigation tools that has been previously subject to review under the National Environmental Policy Act. This ROD is based on input from the public process and information in the BPA Business Plan Environmental Impact Statement (DOE/EIS-0183, June 1995) and the Business Plan Record of Decision (August 15, 1995).

ADDRESSES: Copies of the SN CRAC ROD, Business Plan EIS, and Business Plan ROD may be obtained by calling BPA's toll-free document request line, 1-800-622-4520. The ROD and EIS Summary are also available on our Web site, http://www.efw.bpa.gov.

FOR FURTHER INFORMATION CONTACT: Katherine S. Pierce, Bonneville Power Administration—KEC-4, P.O. Box 3621, Portland, Oregon, 97208-3621; toll-free telephone number 1-800-282-3713; direct telephone number 503-230-3962, fax number 503-230-5699; or e-mail kspierce@bpa.gov.

Issued in Portland, Oregon, on June 30, 2003.
Stephen J. Wright,
Administrator and Chief Executive Officer.

[FR Doc. 03-17471 Filed 7-9-03; 8:45 am]

BILLING CODE 6450-01-P